CONSUMER PRODUCT SAFETY COMMISSION

Sunshine Act Meetings

TIME AND DATE: Wednesday, January 6, 2010, 9 a.m.-9:30 a.m.

PLACE: Hearing Room 420, Bethesda Towers, 4330 East West Highway, Bethesda, Maryland.

STATUS: Commission Meeting—Open to the Public.

MATTERS TO BE CONSIDERED: 1. Pending Decisional Matters:

(a) Lead in Electronic Devices—Final Rule;

(b) Mandatory Recall Notice—Final Rule.

A live webcast of the Meeting can be viewed at http://www.cpsc.gov/webcast/index.html.

For a recorded message containing the latest agenda information, call (301) 504-7948.

FOR MORE INFORMATION CONTACT: Todd A. Stevenson, Office of the Secretary, U.S. Consumer Product Safety Commission, 4330 East West Highway, Bethesda, MD 20814 (301) 504-7923.

Dated: December 28, 2009.
Todd A. Stevenson,
Secretary.

[FR Doc. E9-31295 Filed 1-5-10; 8:45 am]

BILLING CODE 6355-01-M